DEPARTMENT OF HOMELAND SECURITY

Coast Guard

[USCG-2003-15731]

Great Lakes Pilotage Advisory Committee; Meeting Cancellation

AGENCY: Coast Guard, DHS.

ACTION: Notice of meeting cancellation.

SUMMARY: The Great Lakes Pilotage Advisory Committee (GLPAC) meeting scheduled for August 19 and 20, 2003, and announced in the Federal Register on August 1, 2003 (68 FR 45264), is cancelled. A notice will be published in the Federal Register when the meeting is rescheduled.

FOR FURTHER INFORMATION CONTACT: Margie Hegy, Executive Director of GLPAC, telephone 202-267-0415, fax 202-267-4700 or e-mail: Mhegy@comdt.uscg.mil.

Dated: August 12, 2003.
T.H. Gilmour,
Rear Admiral, Coast Guard, Assistant Commandant for Marine Safety, Security and Environmental Protection.

[FR Doc. 03-21223 Filed 8-18-03; 8:45 am]

BILLING CODE 4910-15-P